DEPARTMENT OF TRANSPORTATION

Federal Aviation Administration

Aviation Rulemaking Advisory Committee Meeting on Rotorcraft Issues

AGENCY: Federal Aviation Administration (FAA), DOT.

ACTION: Notice of public meeting.

SUMMARY: This notice announces a public meeting of the FAA's Aviation Rulemaking Advisory Committee (ARAC) to discuss rotorcraft issues.

DATES: The meeting is scheduled for Thursday, March 1, 2007, starting at 5 p.m., Eastern Standard Time. Arrange for oral presentations by February 15, 2007.

ADDRESSES: Orange County Convention Center, West Building (Room W221C), 9800 International Drive, Orlando, Florida 32819.

FOR FURTHER INFORMATION CONTACT: Nicanor Davidson, Office of Rulemaking, ARM-207, FAA, 800 Independence Avenue, SW, Washington, DC 20591; Telephone (202) 267-5174; FAX (202) 267-5075; or e-mail at nicanor.davidson@faa.gov.

SUPPLEMENTARY INFORMATION: The referenced meeting is announced pursuant to section 10(a)(2) of the Federal Advisory Committee Act (Pub. L. 92-463; 5 U.S.C. app. III), The agenda for the meeting is as follows:

• Opening Remarks.

• Working Group Status Reports—Discussion and Approval of Damage Tolerance, and Fatigue Evaluation of Composite Rotorcraft Structure (proposed regulatory, Advisory Circular material package).

• FAA Status Report.

• Performance and Handling Qualities Requirements Notice of Proposed, Rulemaking.

• Fatigue Tolerance Evaluation of Metallic Structures Notice of Proposed, Rulemaking and Advisory Circular package.

• Other Business.

• Future Meetings.

• Adjourn.

Attendance is open to the interested public, but will be limited to the availability of meeting room space. Please confirm your attendance with the person listed in the FOR FURTHER INFORMATION CONTACT section no later than February 15, 2007. Please provide the following information: Full legal name, country of citizenship, and name of your industry association, or applicable affiliation. If you are attending as a public citizen, please indicate so.

For persons participating by telephone, the call-in number is (817) 222-4871; the Passcode is “5359”. To insure that sufficient telephone lines are available, please notify the person listed in the FOR FURTHER INFORMATION CONTACT section of your intent to participate by telephone by February 15, 2007. Anyone participating by telephone will be responsible for paying long-distance charges.

The public must make arrangements by February 15, 2007 to present oral statements at the meeting. Written statements may be presented to the committee at any time by providing 25 copies to the person listed in the FOR FURTHER INFORMATION CONTACT section or by providing copies at the meeting.

If you need assistance or require a reasonable accommodation for the meeting, please contact the person listed in the FOR FURTHER INFORMATION CONTACT section. Sign and oral interpretation, as well as a listening device, can be made available if requested 10 calendar days before the meeting.

Issued in Washington, DC on January 31, 2007.
Pamela Hamilton-Powell,
Director, Office of Rulemaking.

[FR Doc. 07-497 Filed 2-5-07; 8:45 am]

BILLING CODE 4910-13-P